DEPARTMENT OF ENERGY

Federal Energy Regulatory Commission

Notice of Application for Transfer of License and Soliciting Comments, Motions To Intervene, and Protests

| Project No.
Northern Indiana Public Service Company | 12514-084
Northern Indiana Public Service Company LLC

On January 3, 2018, Northern Indiana Public Service Company (transferor) and Northern Indiana Public Service Company LLC (transferee) filed an application for the transfer of license of the Norway-Oakdale Hydroelectric Project No. 12514. The project is located on the Tippecanoe River in Carroll and White counties, Indiana.

The applicants seek Commission approval to transfer the license for the Norway-Oakdale Hydroelectric Project from the transferor to the transferee. This transfer of license reflects an internal corporate reorganization. The transferor will be merged into newly created transferee.

Applicants Contact: Ms. Hallie Meushaw, Troutman Sanders LLP, 600 Peachtree Street NE, Suite 5200, Atlanta, GA 30308, Phone: 404-885-3660, Email: hallie.meushaw@troutman.com and Mr. M. Bryan Little, Senior Counsel, NiSource Corporate Services, 150 West Market Street, Ste. 600, Indianapolis, IN 46204, Phone: 317-694-4903, Email: Blittle@nisource.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-12514-084.

Dated: January 18, 2018.
Kimberly D. Bose,
Secretary.

[FR Doc. 2018-01230 Filed 1-23-18; 8:45 am]

BILLING CODE 6717-01-P